INTERNATIONAL TRADE COMMISSION

[Investigation No. 337-TA-892]

Certain Point-to-Point Network Communication Devices and Products Containing the Same Notice of Amendment of the Complaint and Notice of Investigation; Termination of the Investigation as to Two Respondents

AGENCY: U.S. International Trade Commission.

ACTION: Notice.

SUMMARY: Notice is hereby given that the U.S. International Trade Commission has determined not to review the presiding administrative law judge's (“ALJ”) initial determination (“ID”) (Order No. 2) amending the complaint and notice of investigation in the above-captioned investigation. The amended complaint withdraws two respondents from the investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 9, 2013, based on a complaint filed by Straight Path IP Group, Inc., of Glen Allen, Virginia (“Straight Path”). 78 FR 55096 (Sept. 9, 2013). The complaint alleged violations of section 337 of the Tariff Act of 1930, as amended 19 U.S.C. 1337, by reason of the infringement of certain claims from three United States Patents. The notice of institution named twenty-two respondents, including Sony Computer Entertainment America Inc. of Foster City, California (“SCEA Inc.”) and Sony Ericsson Mobile Communications (USA) Inc. of Atlanta, Georgia (“Sony Ericsson”).

On September 20, 2013, Straight Path filed an unopposed motion to amend the Complaint and Notice of Investigation to remove references to SCEA Inc. and Sony Ericsson. These respondents no longer exist as corporate entities and have been replaced by certain other entities, who are already respondents in the investigation. Order No. 2 at 1-2.

On September 23, 2013, the ALJ granted the motion as an ID. He found that good cause exists for the amendments. Id.

No petitions for review of the ID were filed. The Commission has determined not to review the ID.

The authority for the Commission's determination is contained in section 337 of the Tariff Act of 1930, as amended (19 U.S.C. 1337), and in sections 210.14 and 210.42 of the Commission's Rules of Practice and Procedure (19 CFR 210.14, 210.42).

By order of the Commission.
Issued: November 4, 2013.
Lisa R. Barton,
Acting Secretary to the Commission.

[FR Doc. 2013-26698 Filed 11-6-13; 8:45 am]

BILLING CODE 7020-02-P